EQUAL EMPLOYMENT OPPORTUNITY COMMISSION

[3046-0007]

Stay the Effectiveness of the EEO-1 Pay Data Collection

AGENCY: Equal Employment Opportunity Commission.

ACTION: Notice.

SUMMARY: The U.S. Equal Employment Opportunity Commission (EEOC) announces that, until further notice, filers subject to the EEO-1 reporting requirement should not submit aggregate data about W-2 (Box 1) income and hours worked, which is the information required by “Component 2” of the EEO-1 report as approved on September 29, 2016. However, filers should continue to submit data on the ethnicity, race, and sex of workers by job category (“Component 1” of the EEO-1 report). This is the same type of EEO-1 data that filers have submitted in the past.

DATES: All EEO-1 filers should submit and certify their 2017 EEO-1 reports (Component 1 data only) by March 31, 2018. They should count employees for purposes of this EEO-1 report during a “workforce snapshot period” between October 1 and December 31, 2017.

FOR FURTHER INFORMATION CONTACT: Ronald Edwards, Director, Program Research and Surveys Division, Equal Employment Opportunity Commission, 131 M Street NE., Room 4SW30F, Washington, DC 20507 (202) 663-4949 (voice) or (202) 663-7063 (TTY). Requests for this notice in an alternative format should be made to the Office of Communications and Legislative Affairs at (202) 663-4191 (voice) or (202) 663-4494 (TTY).

SUPPLEMENTARY INFORMATION: On August 29, 2017, the Office of Management and Budget (OMB) issued a memorandum ¹ informing the EEOC that OMB was initiating a review and immediate stay of the effectiveness of a portion of the EEO-1 report that was initially approved on September 29, 2016.² Specifically, OMB initiated a review and immediate stay of the portion of the EEO-1 report that required the reporting of aggregate W-2 (Box 1) income and hours-worked data by employers (including federal contractors) with 100 or more employees. (This is called EEO-1 “Component 2”.) OMB did not stay the portion of the EEO-1 report that requires filers to submit data on the race, ethnicity, and sex of their workers, by job category. (EEO-1 “Component 1”) The EEOC will continue to collect EEO-1 Component 1 data from all filers during OMB's review and stay.

¹ OMB's memorandum is available at https://www.reginfo.gov/public/jsp/Utilities/Review_and_Stay_Memo_for_EEOC.pdf.

² The September 29, 2016 Notice of OMB Action was reissued on October 18, 2016. https://www.reginfo.gov/public/do/PRAViewICR?ref_nbr=201610-3046-001#

Thus, pursuant to 5 CFR 1320.10(g), the EEOC hereby announces that, until further notice, filers subject to the EEO-1 reporting requirement should not submit aggregate W-2 income and hours worked data under Component 2 of the EEO-1, but that they should submit data about race, ethnicity, and sex, by job category, as required by Component 1 of the EEO-1. Filers should follow the EEO-1's new reporting schedule. The 2017 EEO-1 report should be submitted and certified by March 31, 2018. Filers should use a “workforce snapshot period” between October 1 and December 31, 2017.

Dated: August 31, 2017.
For the Commission.
Victoria A. Lipnic,
Acting Chair.

[FR Doc. 2017-19489 Filed 9-14-17; 8:45 am]

BILLING CODE 6570-01-P